DEPARTMENT OF HEALTH AND HUMAN SERVICES

Food and Drug Administration

[Docket No. FDA-2010-N-0511]

Withdrawal of Approval of New Animal Drug Applications; Aklomide; Levamisole Hydrochloride; Nitromide and Sulfanitran

AGENCY: Food and Drug Administration, HHS.

ACTION: Notice.

SUMMARY: The Food and Drug Administration (FDA) is withdrawing approval of eight new animal drug applications (NADAs). In a final rule published elsewhere in this issue of the Federal Register, FDA is amending the animal drug regulations to remove portions reflecting approval of these NADAs.

DATES: Withdrawal of approval is effective November 5, 2010.

FOR FURTHER INFORMATION CONTACT: John Bartkowiak, Center for Veterinary Medicine (HFV-212), Food and Drug Administration, 7519 Standish Pl., Rockville, MD 20855, 240-276-9079, e-mail: john.bartkowiak@fda.hhs.gov.

SUPPLEMENTARY INFORMATION: Fort Dodge Animal Health, a Division of Wyeth Holdings, a Wholly Owned Subsidiary of Pfizer, Inc., 235 East 42d St., New York, NY 10017 has requested that FDA withdraw approval of the eight NADAs listed in Table 1 of this document.

Table 1
NADA No. | Product | Established name of drug(s)
NADA 11-141 | UNISTAT-2 Type A medicated article | nitromide and sulfanitran
NADA 14-250 | NOVASTAT Type A medicated article | aklomide and sulfanitran
NADA 34-536 | ALKOMIX Type A medicated article ALKOMIX-3 Type A medicated article | aklomide aklomide, sulfanitran, and roxarsone
NADA 34-537 | NOVASTAT-3 Type A medicated article | aklomide, sulfanitran, and roxarsone
NADA 35-388 | NOVASTAT-W Soluble Powder | aklomide and sulfanitran
NADA 39-666 | UNISTAT-3 Type A medicated article | nitromide, sulfanitran, and roxarsone
NADA 44-015 | TRAMISOL Type A medicated article | levamisole
NADA 45-455 | TRAMISOL Type A medicated article | levamisole

Therefore, under authority delegated to the Commissioner of Food and Drugs and redelegated to the Center for Veterinary Medicine, and in accordance with § 514.116 Notice of withdrawal of approval of application (21 CFR 514.116), notice is given that approval of NADAs 11-141, 14-250, 34-536, 34-537, 35-388, 39-666, 44-015, and 45-455, and all supplements and amendments thereto, is hereby withdrawn, effective November 5, 2010.

In a final rule published elsewhere in this issue of the Federal Register, FDA is amending the animal drug regulations to reflect the withdrawal of approval of these NADAs.

Dated: October 8, 2010.
Bernadette Dunham,
Director, Center for Veterinary Medicine.

[FR Doc. 2010-27010 Filed 10-25-10; 8:45 am]

BILLING CODE 4160-01-P